Proclamation 10840 of October 11, 2024

Blind Americans Equality Day, 2024

By the President of the United States of America

A Proclamation

This Blind Americans Equality Day, we honor the immense contributions of blind and low vision Americans, who help power our economy and push our Nation forward. And we recommit to ensuring every blind and low vision person in this country has a fair shot at the American Dream.

Throughout my decades in public service, I have strived to build an America that works for all Americans. It is why I was proud to co-sponsor the landmark Americans with Disabilities Act—a civil rights law that banned discrimination against people with disabilities in many areas of public life. I remain proud of its lasting legacy today. However, there is still more to do to ensure that blind and low vision Americans have the resources and opportunities they need to thrive. From transportation to online job applications, public services are too often designed in ways that are inaccessible for people with disabilities. And less than half of blind or low vision Americans are employed.

My Administration is committed to ensuring blind and low vision Americans have equal opportunities. To that end, I signed an Executive Order to prioritize diversity, equity, inclusion, and accessibility in the Federal Government and to identify the barriers faced by job applicants and employees with disabilities. We are also requiring Federal agencies to prioritize website accessibility so the Government can truly deliver for all Americans. These are important steps toward making the Federal Government the gold standard for fair, accessible, and decent practices in the workplace. Furthermore, my Administration is ensuring that blind and low vision Americans hired by the Federal Government are paid a fair wage. That is why we ended the use of unfair sub-minimum wages in Federal contracts. At the same time, we are working to increase hiring for people with disabilities in every sector by helping governments, businesses, and nonprofits access Federal funds to hire more disabled Americans.

I am also working to make public spaces more accessible for blind and low vision Americans. Through my Bipartisan Infrastructure Law, we are investing $1.75 billion—the largest amount ever—in making transit and rail stations more accessible. The General Services Administration also adopted the United States Access Board's new guidelines to ensure people with disabilities have access to the over 300,000 Federal Government buildings. And the National Institutes of Health designated people with disabilities as a population with health disparities, opening up new research opportunities that will focus on health issues and unmet needs for blind and low vision Americans.

This Blind Americans Equality Day, may we recommit to advancing accessibility and opportunities for blind and low vision Americans, who do so much for our Nation and deserve every opportunity to thrive.

By joint resolution approved on October 6, 1964 (Public Law 88-628, as amended), the Congress authorized October 15 of each year as “White Cane Safety Day,” which is recognized today as “Blind Americans Equality Day,” to honor the contributions of blind and low vision Americans.

NOW, THEREFORE, I, JOSEPH R. BIDEN JR., President of the United States of America, by virtue of the authority vested in me by the Constitution and the laws of the United States, do hereby proclaim October 15, 2024, as Blind Americans Equality Day. I call upon all the people of the United States—including all government officials, educators, and volunteers—to mark this day with appropriate programs, ceremonies, and activities.

IN WITNESS WHEREOF, I have hereunto set my hand this eleventh day of October, in the year of our Lord two thousand twenty-four, and of the Independence of the United States of America the two hundred and forty-ninth.

[FR Doc. 2024-24163

Filed 10-16-24; 8:45 am]

Billing code 3395-F4-P